DEPARTMENT OF COMMERCE

International Trade Administration

[A-421-805]

Aramid Fiber Formed of Poly Para-Phenylene Terephthalamide From the Netherlands; Final Results of Antidumping Duty Administrative Review

AGENCY: Import Administration, International Trade Administration, Department of Commerce.

ACTION: Notice of final results of antidumping duty administrative review.

SUMMARY: On July 6, 2000, the Department of Commerce (the “Department”) published the preliminary results of administrative review of the antidumping duty order on aramid fiber formed of poly para-phenylene terephthalamide (“PPD-T aramid”) from the Netherlands. The review covers one manufacturer/exporter, Twaron Products V.o.F., and its U.S. affiliate, Twaron Products, Inc. (collectively “Twaron Products”). The period of review (“POR”) is June 1, 1998, through May 31, 1999.

Based on our analysis of the comments received, we have made no changes in the margin calculations. Therefore, the final results do not differ from the preliminary results. The final weighted-average dumping margin for the reviewed firm is listed below in the section entitled “Final Results of the Review.”

EFFECTIVE DATE: November 9, 2000.

FOR FURTHER INFORMATION CONTACT: Dennis McClure or Michael Grossman, AD/CVD Enforcement, Office VI, Group II, Import Administration, U.S. Department of Commerce, Room 4012, 14th Street and Constitution Avenue, N.W., Washington, D.C. 20230; telephone (202) 482-2786.

SUPPLEMENTARY INFORMATION:

The Applicable Statute

Unless otherwise indicated, all citations to the Tariff Act of 1930, as amended (the “Act”), are references to the provisions effective January 1, 1995, the effective date of the amendments made to the Act by the Uruguay Round Agreements Act. In addition, unless otherwise indicated, all citations to the Department's regulations are to 19 CFR Part 351 (1999).

Background

On July 6, 2000, the Department published the preliminary results of administrative review of the antidumping duty order on PPD-T aramid from the Netherlands. See Preliminary Results of Antidumping Administrative Review; Aramid Fiber Formed of Poly Para-Phenylene Terephthalamide from the Netherlands, 65 FR 41626 (July 6, 2000). The review covers one manufacturer/exporter, Twaron Products V.o.F. The POR is June 1, 1998, through May 31, 1999. We invited interested parties to comment on our preliminary results of review. We received comments on August 7, 2000, from E.I. Dupont de Nemours & Company (“petitioner”). On August 14, 2000, we received a rebuttal brief from Twaron Products. The Department has conducted this administrative review in accordance with section 751 of the Act.

Scope of Review

The products covered by this review are all forms of PPD-T aramid from the Netherlands. These consist of PPD-T aramid in the form of filament yarn (including single and corded), staple fiber, pulp (wet or dry), spun-laced and spun-bonded nonwovens, chopped fiber, and floc. Tire cord is excluded from the class or kind of merchandise subject to this order. This merchandise is currently classifiable under the Harmonized Tariff Schedule of the United States (“HTSUS”) item numbers 5402.10.3020, 5402.10.3040, 5402.10.6000, 5503.10.1000, 5503.10.9000, 5601.30.0000, and 5603.00.9000. The HTSUS item numbers are provided for convenience and Customs purposes. The written description of the scope remains dispositive.

Analysis of Comments Received

All issues raised in the case and rebuttal briefs by parties to this administrative review are addressed in the “Issues and Decision Memorandum” (“Decision Memorandum”) from Holly A. Kuga, Acting Deputy Assistant Secretary for Import Administration, to Richard W. Moreland, Acting Assistant Secretary for Import Administration, dated concurrently with this notice, which is hereby adopted by this notice. A list of the issues which parties have raised, and to which we have responded in the Decision Memorandum, is attached to this notice as an Appendix. Parties can find a complete discussion of all issues raised in this review and the corresponding recommendations in this public memorandum, which is on file in the Central Records Unit, room B-099 (“B-099”) of the main Department building. In addition, a complete version of the Decision Memorandum can be accessed directly on the Web at http://ia.ita.doc.gov. The paper copy and electronic version of the Decision Memorandum are identical in content.

Final Results of Review

We determine that the following percentage weighted-average margin exists for the period June 1, 1998, through May 31, 1999:

Manufacturer/exporter | Margin (percent)
Twaron Products | 3.20

The Department shall determine, and Customs shall assess, antidumping duties on all appropriate entries. In accordance with 19 CFR 351.212(b), we have calculated an exporter/importer-specific assessment rate by dividing the total dumping margins for the reviewed sales by the total entered value of those reviewed sales. Where the importer-specific assessment rate is above de minimis, we will instruct Customs to assess antidumping duties on that importer's entries of subject merchandise.

Cash Deposit Requirements

The following deposit requirements will be effective upon publication of this notice of final results of administrative review for all shipments of PPD-T aramid from the Netherlands entered, or withdrawn from warehouse, for consumption on or after the date of publication, as provided by section 751(a)(1) of the Act: (1) The cash deposit rate for the reviewed company will be the rate shown above; (2) for previously reviewed or investigated companies not listed above, the cash deposit rate will continue to be the company-specific rate published for the most recent period; (3) if the exporter is not a firm covered in this review, a prior review, or the original less-than-fair-value (“LTFV”) investigation, but the manufacturer is, the cash deposit rate will be the rate established for the most recent period for the manufacturer of the merchandise; and (4) the cash deposit rate for all other manufacturers or exporters will continue to be 66.92 percent. This rate is the “All Others” rate from the LTFV investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i)(1) of the Act.

Dated: November 3, 2000.
Richard W. Moreland,
Acting Assistant Secretary for Import Administration.

Appendix—Issues in Decision Memorandum Comments and Responses

1. Constructed Export Price

A. Consolidated Financial Statements Used to Calculate Financial Expenses (U.S. Indirect Selling Expenses)

B. Credit Period for Imputed Credit Expenses Related to Consignment Sales

C. Duties Related to Duty Drawback (Movement Expenses—Canadian Duties)

2. Cost of Production

A. Consolidated Financial Statements Used to Calculate Net Interest Expense

B. Treatment of Goodwill Expenses

[FR Doc. 00-28834 Filed 11-8-00; 8:45 am]

BILLING CODE 3510-DS-P